DEPARTMENT OF TRANSPORTATION

Federal Aviation Administration

14 CFR Part 97

[Docket No. 30773; Amdt. No. 3417]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective March 25, 2011. The compliance date for each SIAP, associated Takeoff Minimums, and ODP is specified in the amendatory provisions.

The incorporation by reference of certain publications listed in the regulations is approved by the Director of the Federal Register as of March 25, 2011.

ADDRESSES: Availability of matter incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs are available online free of charge. Visit http://nfdc.faa.gov to register. Additionally, individual SIAP and Takeoff Minimums and ODP copies may be obtained from:

1. FAA Public Inquiry Center (APA-200), FAA Headquarters Building, 800 Independence Avenue, SW., Washington, DC 20591; or

2.The FAA Regional Office of the region in which the affected airport is located.

FOR FURTHER INFORMATION CONTACT: Harry J. Hodges, Flight Procedure Standards Branch (AFS-420) Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This rule amends Title 14, Code of Federal Regulations, part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) Is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on March 4, 2011.
John McGraw,
Deputy Director, Flight Standards Service.

Adoption of the Amendment

Accordingly, pursuant to the authority delegated to me, Title 14, Code of Federal Regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

By amending: § 97.23 Vor, Vor/DME, Vor or TACAN, and Vor/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
7-Apr-11 | KY | Lexington | Blue Grass Field | 1/3779 | 2/7/11 | This NOTAM, Published in TL 11-07, is hereby rescinded in its entirety
7-Apr-11 | MS | Bay St. Louis | Stennis Intl | 1/4120 | 2/7/11 | This NOTAM, Published in TL 11-07, is hereby rescinded in its entirety
7-Apr-11 | RI | Providence | Theodore Francis Green State | 1/3300 | 2/17/11 | VOR/DME RWY 34, Amdt 5D
7-Apr-11 | MI | Flint | Bishop Intl | 1/3663 | 2/8/11 | ILS or LOC RWY 9, Amdt 22A
7-Apr-11 | OK | Oklahoma City | Sundance Airpark | 1/3673 | 2/8/11 | RNAV (GPS) RWY 17, Orig-A
7-Apr-11 | OK | Oklahoma City | Sundance Airpark | 1/3674 | 2/8/11 | RNAV (GPS) RWY 35, Orig-A
7-Apr-11 | OK | Oklahoma City | Sundance Airpark | 1/3675 | 2/8/11 | LOC RWY 17, Orig-C
7-Apr-11 | OK | Oklahoma City | Sundance Airpark | 1/3676 | 2/8/11 | VOR RWY 17, Amdt 1B
7-Apr-11 | NH | Lebanon | Lebanon Muni | 1/3766 | 2/17/11 | RNAV (GPS) RWY 7, Orig-A
7-Apr-11 | NH | Lebanon | Lebanon Muni | 1/3767 | 2/17/11 | VOR/DME RWY 7, Amdt 1A
7-Apr-11 | OH | Cleveland | Cuyahoga County | 1/3852 | 2/8/11 | ILS or LOC RWY 24, Amdt 14
7-Apr-11 | WI | Marshfield | Marshfield Muni | 1/4196 | 2/7/11 | RNAV (GPS) RWY 16, Orig
7-Apr-11 | ND | Minot | Minot Intl | 1/4321 | 2/7/11 | RNAV (GPS) RWY 31, Amdt 1
7-Apr-11 | VA | Richlands | Tazewell County | 1/4448 | 2/17/11 | LOC/DME RWY 25, Orig
7-Apr-11 | MS | Columbus | Columbus-Lowndes County | 1/4481 | 2/7/11 | Takeoff Minimums and Obstacle DP, Orig
7-Apr-11 | GA | Lagrange | Lagrange-Callaway | 1/4482 | 2/7/11 | Takeoff Minimums and Obstacle DP, Amdt 1
7-Apr-11 | OK | Ardmore | Ardmore Muni | 1/4504 | 2/7/11 | ILS or LOC RWY 31, Amdt 4B
7-Apr-11 | AR | Mountain Home | Ozark Regional | 1/4510 | 2/3/11 | ILS or LOC/DME RWY 5, Orig
7-Apr-11 | AR | Mountain Home | Ozark Regional | 1/4511 | 2/3/11 | RNAV (GPS) RWY 5, Orig
7-Apr-11 | KS | Topeka | Forbes Field | 1/4556 | 2/14/11 | ILS or LOC RWY 31, Amdt 9D
7-Apr-11 | MS | Gulfport | Gulfport-Biloxi Intl | 1/4571 | 2/3/11 | RADAR-1, Amdt 6A
7-Apr-11 | MS | Gulfport | Gulfport-Biloxi Intl | 1/4572 | 2/3/11 | ILS or LOC/DME RWY 32, Amdt 4A
7-Apr-11 | MS | Gulfport | Gulfport-Biloxi Intl | 1/4573 | 2/3/11 | VOR/DME or TACAN RWY 32, Amdt 4A
7-Apr-11 | MS | Gulfport | Gulfport-Biloxi Intl | 1/4574 | 2/3/11 | VOR RWY 32, Amdt 21A
7-Apr-11 | VT | Springfield | Hartness State (Springfield) | 1/4577 | 2/3/11 | RNAV (GPS) RWY 5, Orig
7-Apr-11 | PA | Butler | Butler County/K W Scholter Field | 1/4578 | 2/3/11 | RNAV (GPS) RWY 8, Orig-B
7-Apr-11 | PA | Butler | Butler County/K W Scholter Field | 1/4579 | 2/3/11 | RNAV (GPS) RWY 26, Orig
7-Apr-11 | PA | Butler | Butler County/K W Scholter Field | 1/4580 | 2/3/11 | ILS or LOC RWY 8, Amdt 7B
7-Apr-11 | FL | Orlando | Orlando Sanford Intl | 1/4606 | 2/3/11 | ILS or LOC RWY 9L, Amdt 3
7-Apr-11 | FL | Orlando | Orlando Sanford Intl | 1/4608 | 2/3/11 | NDB B, Orig
7-Apr-11 | FL | Orlando | Orlando Sanford Intl | 1/4609 | 2/3/11 | ILS or LOC RWY 27R, Amdt 1
7-Apr-11 | FL | Orlando | Orlando Sanford Intl | 1/4610 | 2/3/11 | RNAV (GPS) RWY 9L, Amdt 2A
7-Apr-11 | FL | Orlando | Orlando Sanford Intl | 1/4611 | 2/3/11 | RNAV (GPS) RWY 27R, Amdt 1A
7-Apr-11 | FL | Orlando | Orlando Sanford Intl | 1/4612 | 2/3/11 | RNAV (GPS) RWY 9R, Orig-A
7-Apr-11 | FL | Orlando | Orlando Sanford Intl | 1/4613 | 2/3/11 | NDB C, Orig
7-Apr-11 | MA | Norwood | Norwood Memorial | 1/4654 | 2/7/11 | RNAV (GPS) RWY 35, Amdt 1A
7-Apr-11 | MA | Norwood | Norwood Memorial | 1/4655 | 2/7/11 | LOC RWY 35, Amdt 10A
7-Apr-11 | NC | Fayetteville | Fayetteville Rgnl/Grannis Field | 1/4656 | 2/7/11 | RNAV (GPS) RWY 4, Amdt 1
7-Apr-11 | NC | Fayetteville | Fayetteville Rgnl/Grannis Field | 1/4657 | 2/7/11 | ILS or LOC RWY 4, Amdt 15A
7-Apr-11 | MD | Friendly | Potomac Airfield | 1/4671 | 2/8/11 | Takeoff Minimums and Obstacle DP, Orig
7-Apr-11 | NJ | Lumberton | Flying W | 1/5190 | 2/8/11 | RNAV (GPS) RWY 1, Orig
7-Apr-11 | VA | Emporia | Emporia-Greensville Rgnl | 1/5383 | 2/7/11 | RNAV (GPS) RWY 33, Orig-A
7-Apr-11 | VA | Emporia | Emporia-Greensville Rgnl | 1/5384 | 2/7/11 | LOC RWY 33, Orig-A
7-Apr-11 | FL | Panama City | Northwest Florida Beaches Intl | 1/5468 | 2/14/11 | ILS or LOC/DME RWY 16, Orig-B
7-Apr-11 | KY | Paducah | Barkley Rgnl | 1/5720 | 2/14/11 | RNAV (GPS) RWY 4, Orig
7-Apr-11 | KY | Paducah | Barkley Rgnl | 1/5721 | 2/14/11 | RNAV (GPS) RWY 22, Orig
7-Apr-11 | KY | Paducah | Barkley Rgnl | 1/5722 | 2/14/11 | VOR/DME RWY 22, Amdt 5
7-Apr-11 | TN | Nashville | Nashville Intl | 1/5724 | 2/14/11 | VOR/DME RWY 13, Amdt 13A
7-Apr-11 | KY | Ashland | Ashland Rgnl | 1/5824 | 2/14/11 | VOR RWY 10, Amdt 11
7-Apr-11 | KY | Ashland | Ashland Rgnl | 1/5825 | 2/14/11 | RNAV (GPS) RWY 10, Orig
7-Apr-11 | KY | Ashland | Ashland Rgnl | 1/5826 | 2/14/11 | RNAV (GPS) RWY 28, Orig-A
7-Apr-11 | AL | Huntsville | Huntsville Intl-Carl T Jones Field | 1/5869 | 2/14/11 | RNAV (GPS) RWY 18R, Amdt 1
7-Apr-11 | AR | Ozark | Ozark-Franklin County | 1/5894 | 2/8/11 | RNAV (GPS) RWY 4, Orig
7-Apr-11 | AR | Ozark | Ozark-Franklin County | 1/5895 | 2/8/11 | VOR/DME A, Amdt 4
7-Apr-11 | IL | Sparta | Sparta Community-Hunter Field | 1/5959 | 2/14/11 | RNAV (GPS) RWY 18, Orig
7-Apr-11 | AR | Hot Springs | Memorial Field | 1/5976 | 2/14/11 | ZAPLE VOR RWY 5, Amdt 4B
7-Apr-11 | AR | Hot Springs | Memorial Field | 1/5977 | 2/14/11 | VOR RWY 5, Amdt 16A
7-Apr-11 | AR | Hot Springs | Memorial Field | 1/5978 | 2/14/11 | RNAV (GPS) RWY 5, Amdt 1
7-Apr-11 | AR | Hot Springs | Memorial Field | 1/5979 | 2/14/11 | ILS or LOC RWY 5, Amdt 15
7-Apr-11 | FL | Orlando | Sanford Intl | 1/5988 | 2/14/11 | ILS or LOC RWY 9R, Orig
7-Apr-11 | GA | Moultrie | Moultrie Muni | 1/5990 | 2/14/11 | RNAV (GPS) RWY 4, Orig
7-Apr-11 | NC | Lexington | Davidson County | 1/5993 | 2/14/11 | GPS RWY 6, Orig
7-Apr-11 | NC | Lexington | Davidson County | 1/5994 | 2/14/11 | GPS RWY 24, Orig
7-Apr-11 | NC | Lexington | Davidson County | 1/5995 | 2/14/11 | VOR/DME RWY 24, Orig
7-Apr-11 | AL | Huntsville | Madison County Executive/Tom Sharp Jr Fld | 1/6026 | 2/14/11 | RNAV (GPS) RWY 36, Orig
7-Apr-11 | IA | Carroll | Arthur N Neu | 1/6134 | 2/14/11 | RNAV (GPS) RWY 13, Orig
7-Apr-11 | IL | Decatur | Decatur | 1/6136 | 2/14/11 | LOC BC RWY 24, Amdt 10A
7-Apr-11 | IL | Robinson | Crawford Co | 1/6140 | 2/14/11 | VOR or GPS RWY 27, Amdt 4
7-Apr-11 | IL | Robinson | Crawford Co | 1/6141 | 2/14/11 | VOR or GPS RWY 17, Amdt 4
7-Apr-11 | IL | Robinson | Crawford Co | 1/6142 | 2/14/11 | NDB RWY 17, Amdt 7
7-Apr-11 | KS | Hutchinson | Hutchinson Muni | 1/6305 | 2/14/11 | RNAV (GPS) RWY 13, Orig
7-Apr-11 | LA | Baton Rouge | Baton Rouge Metropolitan Ryan Field | 1/6394 | 2/14/11 | NDB RWY 31, Amdt 2B
7-Apr-11 | LA | Baton Rouge | Baton Rouge Metropolitan Ryan Field | 1/6395 | 2/14/11 | RNAV (GPS) RWY 13, Amdt 1
7-Apr-11 | LA | Baton Rouge | Baton Rouge Metropolitan Ryan Field | 1/6396 | 2/14/11 | RADAR-1, Amdt 10C
7-Apr-11 | LA | Baton Rouge | Baton Rouge Metropolitan Ryan Field | 1/6397 | 2/14/11 | ILS or LOC RWY 13, Amdt 27C
7-Apr-11 | LA | Baton Rouge | Baton Rouge Metropolitan Ryan Field | 1/6398 | 2/14/11 | ILS or LOC RWY 22R, Amdt 10A
7-Apr-11 | LA | Baton Rouge | Baton Rouge Metropolitan Ryan Field | 1/6399 | 2/14/11 | RNAV (GPS) RWY 4L, Amdt 1A
7-Apr-11 | LA | Baton Rouge | Baton Rouge Metropolitan Ryan Field | 1/6400 | 2/14/11 | VOR RWY 4L, Amdt 17A
7-Apr-11 | LA | Baton Rouge | Baton Rouge Metropolitan Ryan Field | 1/6401 | 2/14/11 | RNAV (GPS) RWY 22R, Amdt 1A
7-Apr-11 | LA | Baton Rouge | Baton Rouge Metropolitan Ryan Field | 1/6403 | 2/14/11 | RNAV (GPS) RWY 31, Amdt 1B
7-Apr-11 | LA | Baton Rouge | Baton Rouge Metropolitan Ryan Field | 1/6406 | 2/14/11 | VOR/DME RWY 22R, Amdt 8F
7-Apr-11 | FL | Apalachicola | Apalachicola Rgnl | 1/6421 | 2/14/11 | RNAV (GPS) RWY 13, Amdt 1
7-Apr-11 | FL | Apalachicola | Apalachicola Rgnl | 1/6422 | 2/14/11 | RNAV (GPS) RWY 31, Amdt 1
7-Apr-11 | FL | Apalachicola | Apalachicola Rgnl | 1/6423 | 2/14/11 | RNAV (GPS) B, Orig
7-Apr-11 | FL | Apalachicola | Apalachicola Rgnl | 1/6424 | 2/14/11 | RNAV (GPS) RWY 6, Orig
7-Apr-11 | FL | Apalachicola | Apalachicola Rgnl | 1/6425 | 2/14/11 | RNAV (GPS) RWY 24, Orig
7-Apr-11 | LA | Monroe | Monroe Rgnl | 1/6535 | 2/14/11 | RADAR-1, Amdt 6A
7-Apr-11 | IL | Morris | Morris Muni-James R Washburn Field | 1/6666 | 2/17/11 | VOR A, Orig-A
7-Apr-11 | TX | Haskell | Haskell Muni | 1/6667 | 2/17/11 | NDB or GPS RWY 18, Amdt 2
7-Apr-11 | IL | Effingham | Effingham County Memorial | 1/6668 | 2/17/11 | LOC RWY 29, Amdt 1B
7-Apr-11 | NE | Hebron | Hebron Muni | 1/6669 | 2/17/11 | GPS RWY 12, Orig-A
7-Apr-11 | MI | Detroit | Detroit Metropolitan Wayne County | 1/6903 | 2/17/11 | ILS or LOC RWY 3R, Amdt 15; ILS RWY 3R (CAT II), Amdt 15; ILS RWY 3R (CAT III), Amdt 15
7-Apr-11 | MN | Grand Rapids | Grand Rapids/Itasca Co-Gordon Newstrom Fld | 1/6907 | 2/17/11 | RNAV (GPS) RWY 34, Orig-A
7-Apr-11 | NE | Fairmont | Fairmont State Airfield | 1/6933 | 2/17/11 | NDB RWY 17, Amdt 1A
7-Apr-11 | TX | Snyder | Winston Field | 1/7093 | 2/17/11 | RNAV (GPS) RWY 35, Orig
7-Apr-11 | TX | Snyder | Winston Field | 1/7094 | 2/17/11 | NDB RWY 35, Amdt 2
7-Apr-11 | KS | Oberlin | Oberlin Muni | 1/7095 | 2/17/11 | NDB or GPS RWY 35, Orig-A

[FR Doc. 2011-6112 Filed 3-24-11; 8:45 am]

BILLING CODE 4910-13-P